DEPARTMENT OF ENERGY

Federal Energy Regulatory Commission

[Project No. 2242-078]

Eugene Water & Electric Board; Notice Soliciting Comments on Request for Stay of Licensing Decision

On July 27, 2015, the Eugene Water & Electric Board (EWEB), licensee for the Carmen-Smith Hydroelectric Project (P-2242) located on the McKenzie River in Lane and Line Counties, Oregon, requested that the Commission: (1) Delay acting on its license application until at least January 31, 2016, while it completes additional economic analysis of implementing the 2008 settlement agreement on the project; (2) hold a technical conference to discuss EWEB's economic analysis; and (3) designate a non-decisional separated staff to advise EWEB about alternatives to the settlement agreement as it relates to project economics. This request can be viewed at http://elibrary.ferc.gov:0/idmws/doc_info.asp?document_id=14360392.

The Commission is soliciting comments on this request. Any comments should be filed within 15 days from the date of this notice. Comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE., Washington, DC 20426. The first page of any filing should include docket number P-2242-078.

For further information, contact David Turner at (202) 502-6091.

Dated: August 5, 2015.
Nathaniel J. Davis, Sr.,
Deputy Secretary.

[FR Doc. 2015-19692 Filed 8-10-15; 8:45 am]

BILLING CODE 6717-01-P